DEPARTMENT OF DEFENSE

Department of the Navy

[Docket ID: USN-2022-HQ-0010]

Proposed Collection; Comment Request

AGENCY: Department of the Navy, Department of Defense (DoD).

ACTION: 60-Day information collection notice.

SUMMARY: In compliance with the Paperwork Reduction Act of 1995, the Naval Health Research Center (NHRC) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 21, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Naval Health Research Center Gate 4, Patterson Rd at McClelland Rd, San Diego, CA 92152, ATTN: MAJ Keyia Carlton, or call 619-553-4363.

SUPPLEMENTARY INFORMATION: Title; Associated Form; and OMB Number: Recruit Assessment Program; OMB Control Number 0703-MRAP.

Needs And Uses: The Recruit Assessment Program (RAP) is a DoD-sponsored program for routine collection of baseline demographic, physical, psychological, environmental, and behavioral health data from recruits at Marine Corps Recruit Depots. While many other military surveys examine the health and well-being of service members, the RAP collects voluntary self-reported pre-military health data. These data are essential for: (1) Allowing researchers to examine and distinguish contributions of pre-military vs. military factors that influence service member health and career outcomes; (2) the development of early intervention programs to improve service member health and enhance career success; and (3) the examination of health trends across waves of military recruits over time. Understanding these factors contributes towards the development of health policy as well as recruiting and retention initiatives.

Affected Public: Individuals or households.

Annual Burden Hours: 24,266.7.

Number of Respondents: 41,600.

Responses per Respondent: 1.

Annual Responses: 41,600.

Average Burden Per Response: 35 minutes.

Frequency: Once per respondent.

During the first week of boot camp, drill instructors escort recruits to a classroom setting to be supervised by RAP administrators for the next hour. Administrators provide recruits with a paper copy of the RAP survey, which includes consent forms, privacy, and HIPAA rights. Recruits receive a briefing about the purpose and voluntary nature of the survey as well as investigator contact information if they want to withdraw their consent later or have further questions. Administrators guide recruits through the consent, HIPAA and demographic portions of the survey using a PowerPoint presentation as a visual aid. The survey takes approximately 35 minutes to complete in total. After survey completion, administrators provide instructions on dismissal procedures. Administrators turn recruits over to their drill instructors and recruits return surveys to administrators as they exit the classroom.

Dated: April 14, 2022.
Aaron T. Siegel,
Alternate OSD Federal Register Liaison Officer, Department of Defense.

[FR Doc. 2022-08449 Filed 4-19-22; 8:45 am]

BILLING CODE 5001-06-P